DEPARTMENT OF DEFENSE

Defense Acquisition Regulations System

48 CFR Parts 201, 204, 215, 225, 227, 242, 245, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective February 28, 2013.

FOR FURTHER INFORMATION CONTACT: Mr. Manuel Quinones, Defense Acquisition Regulations System, OUSD (AT&L) DPAP (DARS), Room 3B855, 3060 Defense Pentagon, Washington, DC 20301-3060. Telephone 571-372-6088; facsimile 571-372-6094.

SUPPLEMENTARY INFORMATION: This final rule amends the DFARS as follows:

1. Corrects address of the Director, DAR Council at 201.201-1(d)(i);

2. Corrects 204.203(b) for consistency with FAR terminology;

3. Corrects terminology at 204.7106(b)(2)(ii)(D) relating to contract line items;

4. Corrects text at 215.403-1(c)(1)(A)(1);

5. Updates DFARS text at 215.404-71-2(e)(l)(i) by adding the word “data” for consistency with the FAR;

6. Corrects typographical error at 215.408(2);

7. Removes obsolete language from 225.7006-3(b) and 225.7008(b).

8. Corrects typographical error at 227.7103-3(c);

9. Revises 242.302(a)(S-72);

10. Revises 242.7302 to call attention to guidance at PGI ;

11. Corrects typographical error at 245.103-72;

12. Corrects clause date and link at 252.204-7004;

13. Corrects links at 252.211-7007(a), 252.211-7007(d)(6), and 252.211-7007(g)(1);

14. Corrects clause dates at 252.212-7001(b)(2), 252.212-7001(b)(4), and at 252.212-7001(b)(26); and

15. Corrects typographical error at 252.215-7000 and clarifies clause terminology relating to Subcontractor Certified Cost or Pricing Data.

List of Subjects in 48 CFR Parts 201, 204, 215, 225, 227, 242, 245 and 252

Government procurement.

Manuel Quinones,
Editor, Defense Acquisition Regulations System.

Therefore, 48 CFR parts 201, 204, 215, 225, 227, 242, 245 and 252 are amended as follows:

1. The authority citation for 48 CFR parts 201, 204, 215, 225, 227, 242, 245 and 252 continue to read as follows:

Authority: 41 U.S.C. 1303 and 48 CFR chapter 1.

PART 201—FEDERAL ACQUISITION REGULATIONS SYSTEM

201.201-1 [Amended]

2. Section 201.201-1 paragraph (d)(i) introductory text is amended by removing “OUSD(AT&L), 3062 Defense Pentagon, Washington, DC 20301-3062;” and adding “OUSD(AT&L), 3060 Defense Pentagon, Washington, DC 20301-3060;” in its place.

PART 204—ADMINISTRATIVE MATTERS

204.203 [Amended]

3. Section 204.203 is amended in paragraph (b) by removing the word “clause” and adding the word “provision” in its place.

204.7106 [Amended]

4. Section 204.7106 is amended in paragraph (b)(2)(ii)(D) by removing “original contract or exhibit line or subline item” and adding “original contract line item or subline item or exhibit line item” in its place.

PART 215—CONTRACTING BY NEGOTIATION

215.403-1 [Amended]

5. Section 215.403-1 is amended in paragraph (c)(1)(A)(1) by removing the word “information” and adding the word “data” in its place.

215.404-71-2 [Amended]

6. Section 215.404-71-2 is amended in paragraph (e)(1)(i) by removing “contracting office information and reviews” and adding “contracting office data, information and reviews” in its place.

215.408 [Amended]

7. Section 215.408 is amended in paragraph (2) by removing the word “award” and adding the word “awarded” in its place.

PART 225-FOREIGN ACQUISITION

8. Section 225.7006-3(b) is revised to read as follows:

225.7006-3 Waiver.

* * * * *

(b) The Under Secretary of Defense (Acquisition, Technology, and Logistics) has waived the restriction for air circuit breakers manufactured in the United Kingdom. (See 225.7008.)

9. Section 225-7008(b) is revised to read as follows:

225.7008 Waiver of restrictions of 10 U.S.C. 2534.

* * * * *

(b) In accordance with the provisions of paragraphs (a)(1)(i) through (iii) of this section, the USD(AT&L) has waived the restrictions of 10 U.S.C. 2534(a) for certain items manufactured in the United Kingdom, including air circuit breakers for naval vessels (see 225.7006).

PART 227—PATENTS, DATA, AND COPYRIGHTS

227.7103-3 [Amended]

10. Section 227.7103-3 is amended in paragraph (c) by removing “the clause at 252.277-7013” and adding “the clause at 252.227-7013” in its place.

PART 242—CONTRACTOR INSURANCE/PENSION REVIEW

11. Section 242.302 paragraph (a)(S-72) is revised to read as follows:

242.302 Contract administration functions.

(a) * * *

(S-72) Ensure implementation of the Synchronized Predeployment and Operational Tracker (SPOT) by the contractor and maintain surveillance over contractor compliance with SPOT business rules available at the Web site provided at PGI 225.7402-5(a)(iv) for contracts incorporating the clause at 252.225-7040, Contractor Personnel Authorized to Accompany U.S. Armed Forces Deployed Outside the United States. See PGI 242.302(a)(S-72) for guidance on assessing contractor's implementation of SPOT.

* * * * *

12. Section 242.7302 is revised to read as follows:

242.7302 Requirements.

(a)(1) An in-depth CIPR as described at DFARS 242.7301(a)(1) shall be conducted only when—

(i) A contractor has $50 million of qualifying sales to the Government during the contractor's preceding fiscal year; and

(ii) The ACO, with advice from DCMA insurance/pension specialists and DCAA auditors, determines a CIPR is needed based on a risk assessment of the contractor's past experience and current vulnerability.

(2) Qualifying sales are sales for which certified cost or pricing data were required under 10 U.S.C. 2306a, as implemented in FAR 15.403, or that are contracts priced on other than a firm-fixed-price or fixed-price with economic price adjustment basis. Sales include prime contracts, subcontracts, and modifications to such contracts and subcontracts.

(b) A special CIPR that concentrates on specific areas of a contractor's insurance programs, pension plans, or other deferred compensation plans shall be performed for a contractor (including, but not limited to, a contractor meeting the requirements in paragraph (a) of this section) when any of the following circumstances exists, but only if the circumstance(s) may result in a material impact on Government contract costs:

(1) Information or data reveals a deficiency in the contractor's insurance/pension program.

(2) The contractor proposes or implements changes in its insurance, pension, or deferred compensation plans.

(3) The contractor is involved in a merger, acquisition, or divestiture.

(4) The Government needs to follow up on contractor implementation of prior CIPR recommendations.

(c) The DCAA auditor shall use relevant findings and recommendations of previously performed CIPRs in determining the scope of any audits of insurance and pension costs.

(d) When a Government organization believes that a review of the contractor's insurance/pension program should be performed, that organization should provide a recommendation for a review to the ACO. If the ACO concurs, the review should be performed as part of an ACO-initiated special CIPR or as part of a CIPR already scheduled for the near future.

PART 245—GOVERNMENT PROPERTY

245.103-72 [Amended]

13. Section 245.103-72 is amended by removing “PGI 245-103-72” and adding “PGI 245.103-72” in its place.

PART 252—SOLICITATION PROVISIONS AND CONTRACT CLAUSES

252.204-7004 [Amended]

14. Section 252.204-7004 is amended—

(a) By removing the clause date “(SEP 2007)” and adding “(FEB 2013)” in its place;

(b) In the introductory text by removing “As prescribed in 204.1104” and adding “As prescribed in 204.1105” in its place, and removing the word “clause” and adding the word “provision” in its place.

252.211-7007 [Amended]

15. Section 252.211-7007 is amended as follows:

a. In paragraph (a), in the definition of “supply condition code” by removing the link “http://www.dtic.mil/whs/directives/corres/pdf/400025m.pdf” and adding the link “http://www2.dla.mil/j-6/dlmso/elibrary/manuals/dlm/dlm_pubs.asp” in its place;

b. In paragraph (d)(6) by removing the link “http://www.dtic.mil/whs/directives/corres/pdf/400025m.pdf” and adding the link “http://www2.dla.mil/j-6/dlmso/elibrary/manuals/dlm/dlm_pubs.asp” in its place; and

c. In paragraph (g)(1) by removing the link “https:///bpn.gov/iuid” and adding the link “https://iuid.logisticsinformationservice.dla.mil/” in its place.

252.212-7001 [Amended]

16. Section 252.212-7001 is amended—

a. In paragraph (b)(2) by removing the clause date “(APR 2012)” and adding “(DEC 2012)” in its place;

b. In paragraph (b)(4) by removing the clause date “(JUN 2012)” and adding “(AUG 2012)” in its place; and

c. In paragraph (b)(26) by removing the clause date “(MAR 1998)” and adding “(DEC 2012)” in its place.

252.215-7000 [Amended]

17. Section 252.215-7000 is amended—

a. In the introductory paragraph by removing “use the followiclause” and adding “use the following clause” in its place, and

b. By removing “Subcontractor Cost or Pricing Data” and adding “Subcontractor Certified Cost or Pricing Data” in its place.

[FR Doc. 2013-04354 Filed 2-27-13; 8:45 am]

BILLING CODE 5001-06-P